ENVIRONMENTAL PROTECTION AGENCY

[EPA-HQ-OPP-2009-0608; FRL-9347-6]

Amendment/Extension of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: Mike Mendelsohn, Biopesticides and Pollution Prevention Division (7511P), Office of Pesticide Programs, Environmental Protection Agency, 1200 Pennsylvania Ave. NW., Washington, DC 20460-0001; telephone number: (703) 308-8715; email address: mendelsohn.mike@epa.gov.

SUPPLEMENTARY INFORMATION:

I. General Information

A. Does this action apply to me?

This action is directed to the public in general. Although this action may be of particular interest to those persons who conduct or sponsor research on pesticides, the Agency has not attempted to describe all the specific entities that may be affected by this action. If you have any questions regarding the information in this action, consult the person listed under FOR FURTHER INFORMATION CONTACT.

B. How can I get copies of this document and other related information?

EPA has established a docket for this action under docket identification (ID) number EPA-HQ-OPP-2009-0608. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. EUP

EPA has issued the following EUP:

67979-EUP-8. Amendment/Extension. Syngenta Seeds, Inc.—Field Crops, P.O. Box 12257, Research Triangle Park, NC 27709. This EUP amendment/extension allows the use of the plant-incorporated protectant (PIP) [Event 5307] Bacillus thuringiensis eCry3.1Ab protein and the genetic material necessary for its production (vector pSYN12274) in Event 5307 corn (SYN-Ø53Ø7-1) and combined and single trait hybrids with one or more of the following additional PIPs: (1) [Bt11] Bacillus thuringiensis Cry1Ab delta-endotoxin and the genetic material (as contained in plasmid vector pZO1502) necessary for its production in corn, (2) [DAS-59122-7] Bacillus thuringiensis Cry34Ab1 and Cry35Ab1 proteins and the genetic material (vector PHP 17662) necessary for their production in Event DAS-59122-7 corn, (3) [MIR162] Bacillus thuringiensis Vip3Aa20 and the genetic material necessary for its production (vector pNOV1300) in event MIR162 maize (SYN-IR162-4), (4) [MIR604] Modified Cry3A protein and the genetic material necessary for its production (via elements of pZM26) in corn (SYN-IR604-8), and 5) [TC1507] Bacillus thuringiensis Cry1F protein and the genetic material (vector PHP8999) necessary for its production in Event TC1507 corn. 11.137 pounds (lbs.) of eCry3.1Ab, 0.012 lbs. of Cry1Ab, 8.883 lbs. of Cry34Ab1, 0.122 lbs. of Cry35Ab1, 0.306 lbs. of Vip3Aa20, 0.238 lbs. of mCry3A, and 0.194 lbs. of Cry1F are authorized on 3,796 PIP acres. 3,122 acres of non-PIP corn are also authorized.

Two protocols will be conducted, including: Efficacy evaluation and regulatory studies. The program is authorized only in the States of Arkansas, California, Colorado, Florida, Georgia, Hawaii, Idaho, Illinois, Indiana, Iowa, Kansas, Kentucky, Louisiana, Maryland, Michigan, Minnesota, Mississippi, Missouri, Nebraska, New York, North Carolina, Ohio, Oklahoma, Puerto Rico, South Carolina, South Dakota, Texas, Washington, and Wisconsin. The EUP amendment/extension is effective from March 1, 2012 to December 31, 2013. No comments were received on the notice of receipt document, which published in the Federal Register on January 19, 2011 (76 FR 3135) (FRL-8855-3).

Authority: 7 U.S.C. 136c.

List of Subjects

Environmental protection, Experimental use permits.

Dated: April 24, 2012.
Daniel J. Rosenblatt,
Acting Director, Registration Division, Office of Pesticide Programs.

[FR Doc. 2012-10676 Filed 5-3-12; 8:45 am]

BILLING CODE 6560-50-P